DEPARTMENT OF STATE

[Public Notice 6807]

Notice of Meeting of the Advisory Committee on International Law

A meeting of the Advisory Committee on International Law will take place on Friday, December 11, 2009, from 9:15 a.m. to approximately 5:30 p.m., at the George Washington University Law School (Michael K. Young Faculty Conference Center, 5th Floor), 2000 H St., NW., Washington, DC. The meeting will be chaired by the Legal Adviser of the Department of State, Harold H. Koh, and will be open to the public up to the capacity of the meeting room. It is anticipated that the agenda of the meeting will cover a range of current international legal topics, including treaty scope and enforcement issues, the relationship between human rights treaties and humanitarian law; issues relating to the International Criminal Court; options for compliance with the International Court of Justice's decision in the Case Concerning Avena and Other Mexican Nationals (Mexico v. United States of America); and the law of non-international armed conflict. Members of the public will have an opportunity to participate in the discussion.

Members of the public who wish to attend the session should, by Monday, December 7, 2009, notify the Office of the Legal Adviser (telephone: 202-776-8323) of their name, professional affiliation, address, and telephone number. A valid photo ID is required for admittance. A member of the public who needs reasonable accommodation should make his or her request by December 4, 2009; requests made after that time will be considered but might not be possible to accommodate.

Dated: November 19, 2009.
David DeBartolo,
Office of Claims and Investment Disputes, Office of the Legal Adviser, Executive Director, Advisory Committee on International Law, Department of State.

[FR Doc. E9-28274 Filed 11-24-09; 8:45 am]

BILLING CODE 4710-08-P